DEPARTMENT OF ENERGY

Federal Energy Regulatory Commission

[Project No. 14595-000]

FFP Project 10, LLC; Notice of Preliminary Permit Application Accepted for Filing and Soliciting Comments, Motions To Intervene, and Competing Applications

On March 3, 2014, FFP Project 10, LLC filed an application for a preliminary permit, pursuant to section 4(f) of the Federal Power Act (FPA), proposing to study the feasibility of the Allegheny Lock and Dam #4 Hydroelectric Project (Allegheny #4 Project or project) to be located at the U.S. Army Corps of Engineers' (Corps) Allegheny Lock and Dam #4 on the Allegheny River in Allegheny County, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) A new 150-foot-wide by 200-foot-long intake; (2) a new 150-foot-wide by 200-foot-long powerhouse; (3) a new 150-foot-wide by 300-foot-long tailrace; (4) new 250-foot-long and 150-foot-long concrete retaining walls upstream of the new intake and downstream of the new powerhouse, respectively; (5) three horizontal Kaplan turbine-generators each rated at 5 megawatts; (6) a 20-megavolt-ampere, 4.16-kilovolt (kV)/69-kV three-phase step-up transformer; (7) a new 40-foot-wide by 40-foot-long substation; and (8) a new 69-kV transmission line approximately 1,630 feet long from the new substation to an existing substation. The estimated annual generation of the Allegheny #4 Project would be 89 gigawatt-hours.

Applicant Contact: Mr. Daniel Lissner, FFP Project 10, LLC, 239 Causeway Street, Suite 300, Boston, MA 02114; phone: (978) 283-2822.

FERC Contact: Woohee Choi; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14595-000.

More information about this project, including a copy of the application, can be viewed or printed on the “eLibrary” link of the Commission's Web site at http://www.ferc.gov/docs-filing/elibrary.asp. Enter the docket number (P-14595) in the docket number field to access the document. For assistance, contact FERC Online Support.

Dated: April 29, 2014.
Kimberly D. Bose,
Secretary.

[FR Doc. 2014-10314 Filed 5-5-14; 8:45 am]

BILLING CODE 6717-01-P